DEPARTMENT OF COMMERCE

International Trade Administration

[A-423-810]

Notice of Amended Final Determination of Sales at Less Than Fair Value: Structural Steel Beams from Luxembourg

AGENCY: Import Administration, International Trade Administration, U.S. Department of Commerce.

ACTION: Notice of Amended Final Determination of Sales at Less Than Fair Value.

EFFECTIVE DATE: June 17, 2002.

FOR FURTHER INFORMATION CONTACT: David J. Goldberger or Margarita Panayi, Import Administration, International Trade Administration, U.S. Department of Commerce, 14th Street and Constitution Avenue, NW, Washington, DC 20230; telephone: (202) 482-4136 or (202) 482-0049, respectively.

SUPPLEMENTARY INFORMATION:

Applicable Statute and Regulations

Unless otherwise indicated, all citations to the Tariff Act of 1930, as amended (“the Act”), are references to the provisions effective January 1, 1995, the effective date of the amendments made to the Act by the Uruguay Round Agreements Act (“URAA”). In addition, unless otherwise indicated, all citations to the Department of Commerce's (“Department's”) regulations are references to 19 CFR Part 351 (April 2001).

Scope of the Investigation

The scope of this investigation covers doubly-symmetric shapes, whether hot-or cold-rolled, drawn, extruded, formed or finished, having at least one dimension of at least 80 mm (3.2 inches or more), whether of carbon or alloy (other than stainless) steel, and whether or not drilled, punched, notched, painted, coated, or clad. These structural steel beams include, but are not limited to, wide-flange beams (“W” shapes), bearing piles (“HP” shapes), standard beams (“S” or “I” shapes), and M-shapes. All the products that meet the physical and metallurgical descriptions provided above are within the scope of this investigation unless otherwise excluded. The following products are outside and/or specifically excluded from the scope of this investigation: (1) Structural steel beams greater than 400 pounds per linear foot, (2) structural steel beams that have a web or section height (also known as depth) over 40 inches, and (3) structural steel beams that have additional weldments, connectors, or attachments to I-sections, H-sections, or pilings; however, if the only additional weldment, connector or attachment on the beam is a shipping brace attached to maintain stability during transportation, the beam is not removed from the scope definition by reason of such additional weldment, connector, or attachment.

The merchandise subject to this investigation is classified in the Harmonized Tariff Schedule of the United States (“HTSUS”) at subheadings 7216.32.0000, 7216.33.0030, 7216.33.0060, 7216.33.0090, 7216.50.0000, 7216.61.0000, 7216.69.0000, 7216.91.0000, 7216.99.0000, 7228.70.3040, and 7228.70.6000. Although the HTSUS subheadings are provided for convenience and customs purposes, the written description of the merchandise under investigation is dispositive.

Amendment of Final Determination

In accordance with section 735(a) of the Act, on May 20, 2002, the Department published the final determination in the less-than-fair-value (LTFV) investigation on structural steel beams from Luxembourg. See Notice of Final Determination of Sales at Less Than Fair Value: Structural Steel Beams from Luxembourg, 67 FR 35488. On May 22, 2002, we received a submission, timely filed pursuant to 19 CFR 351.224(c)(2), from the respondent, ProfilARBED, S.A. (ProfilARBED), alleging ministerial errors in the Department's final determination with respect to the application of facts available for the ocean freight expense on U.S. sales, the revision of the date of sale for certain U.S. sales, and the failure to convert the normal value to U.S. dollars in the margin calculation programming. On May 28, 2002, the petitioners¹ submitted comments with respect to ProfilARBED's claim regarding ocean freight.

¹ The petitioners in this investigation are the Committee for Fair Beam Imports and its individual members, Northwestern Steel and Wire Company, Nucor Corporation, Nucor-Yamato Steel Company, and TXI-Chaparral Steel Company, domestic manufacturers of Structural Steel Beams.

After analyzing ProfilARBED's submission, we agree that the Department made ministerial errors by (1) incorrectly revising the date of sale to U.S. sales made from a warehouse, and (2) failing to convert the third country normal value from Euros to U.S. dollars before making the CEP offset and calculating the per-unit dumping margin. With respect to the first allegation concerning ocean freight expense, we have determined that there was no ministerial error in either the Department's decision to apply facts available to the ocean freight expense, or in selecting the facts available rate for the expense. See Memorandum to Richard Moreland from The Team, dated June 5, 2002, for further discussion of ProfilARBED's ministerial errors allegations and the Department's analysis.

Therefore, in accordance with 19 CFR 351.224(e), we are amending the final determination in the LTFV investigation on structural steel beams from Luxembourg.

The revised weighted-average dumping margin is as follows:

Exporter/Manufacturer | Weighted-Average Margin Percentage
ProfilARBED | 6.14
All Others | 6.14

In accordance with section 735(c)(5)(A), we have based the “all others” rate on the dumping margin found for the sole producer/exporter investigated in this proceeding, ProfilARBED.

Suspension of Liquidation

In accordance with section 735(c)(1)(B) of the Act, we are directing the United States Customs Service to continue suspending liquidation on all imports of the subject merchandise from Luxembourg. Customs shall require a cash deposit or the posting of a bond equal to the weighted-average margin shown above. The suspension of liquidation instructions will remain in effect until further notice.

International Trade Commission Notification

In accordance with section 735(d) of the Act, we have notified the International Trade Commission of our amended final determination.

This investigation and notice are in accordance with sections 735(d) and 777(i)(1) of the Act.

DATED: June 7, 2002
Faryar Shirzad,
Assistant Secretary for Import Administration.

[FR Doc. 02-15206 Filed 6-14-02; 8:45 am]

BILLING CODE 3510-DS-S